DEPARTMENT OF COMMERCE

[Docket No. 111115678-2197-02]

Privacy Act System of Records

AGENCY: U.S. Census Bureau, Department of Commerce.

ACTION: Notice of amended Privacy Act System of Records: COMMERCE/CENSUS-3, Special Censuses, Surveys, and Other Studies.

SUMMARY: In order to update the system of records the Department of Commerce publishes this notice to announce the effective date of an amended Privacy Act System of Records titled “COMMERCE/CENSUS-3, Individual and Household Statistical Surveys and Special Studies Records.” The notice of proposed amendment to this system of records was published in the Federal Register on January 26, 2012 (77 FR 4002).

DATES: The system of records becomes effective on March 27, 2012.

ADDRESSES: For a copy of the system of records please mail requests to: Chief Privacy Officer, Privacy Office, Room HQ-8H115, U.S. Census Bureau, Washington, DC 20233-3700.

FOR FURTHER INFORMATION CONTACT: Chief Privacy Officer, Privacy Office, Room HQ-8H115, U.S. Census Bureau, Washington, DC 20233-3700, 301-763-6560.

SUPPLEMENTARY INFORMATION: On January 26, 2012, the Department of Commerce published and requested comments on proposed amendments to the Privacy Act System of Records titled, “COMMERCE/CENSUS-3, Individual and Household Statistical Surveys and Special Studies Records.” Upon amendment, the system will be titled, “COMMERCE/CENSUS-3, Special Censuses, Surveys, and Other Studies.” The amendment serves to generally update the system of records by updating the purpose of the system, updating categories of individuals in the system, updating categories of records in the system, and updating policies and practices for storing, retaining, disposing, and safeguarding the records in the system. No comments were received in response to the request for comments. This notice informs the public that the Department is adopting the proposed system as final without changes, effective March 27, 2012.

Dated: March 21, 2012.
Jonathan R. Cantor,
Chief Privacy Officer, U.S. Department of Commerce.

[FR Doc. 2012-7302 Filed 3-26-12; 8:45 am]

BILLING CODE 3510-07-P